DEPARTMENT OF THE INTERIOR

National Park Sevice

60-Day Notice of Intention To Request Clearance of Collection of Information—Opportunity for Public Comment

AGENCY: Department of the Interior; National Park Service

ACTION: Notice and request for comments.

SUMMARY: Under the provisions of the Paperwork Reduction Act of 1995 (Pub. L. 104-13, 44 U.S.C. 3507) and 5 CFR 1320, Reporting and Recordkeeping Requirements, the National Park Service invites public comments on an extension of a currently approved collection of information Office of Management and Budget (OMB) #1024-0034. An agency may not conduct or sponsor, and a person is not required to respond to, a collection of information unless it displays a currently valid OMB control number.

DATES: Public comments will be accepted on or before May 14, 2010.

ADDRESSES: Send comments to Michael D. Wilson, Chief or Laurie Heupel, Outdoor Recreation Planner, State and Local Assistance Programs Division, National Park Service (2225), 1849 C Street, NW., Washington, DC 20240-0001 or via e-mail at michael_d_wilson@nps.gov or laurie_heupel@nps.gov. All responses to this notice will be summarized and included in the request.

To Request a Draft of Proposed Collection of Information Contact: Michael D. Wilson, Chief or Laurie Heupel, Outdoor Recreation Planner, State and Local Assistance Programs Division, National Park Service (2225), 1849 C Street, NW., Washington, DC 20240-0001 or via e-mail at Michael_d_wilson@nps.gov or Laurie_heupel@nps.gov. You are entitled to a copy of the entire ICR package free-of-charge.

SUPPLEMENTARY INFORMATION:

OMB Control Number: 1024-0034.

Title: Land and Water Conservation Fund On-Site Inspection Report.

Expiration Date: August 31, 2010.

Form: None.

Type of Request: Extension of currently approved information collection

Abstract: The National Park Service (NPS) administers the Land and Water Conservation Fund (L&WCF) State assistance program. Matching grants are provided to States, and through States to local communities, for the acquisition and development of outdoor recreation areas and facilities. On Site Inspection Reports are used to determine project eligibility for funding and to insure compliance with all applicable Federal Laws and guidelines.

Affected Public: State Governments, DC, and Territories.

Obligation to Respond: Required to Obtain Benefits.

Frequency of Response: 1 per respondent.

Estimated total annual respondents: 6,000.

Estimated average completion time per response: 30 minutes.

Estimated total annual reporting burden: 3,000 hours.

Estimated annual non hour cost burden: None.

The NPS also is asking for comments on (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information we cannot guarantee that we will be able to do so.

Dated: March 9, 2010.
Cartina Miller,
Information Collection Officer, National Park Service.

[FR Doc. 2010-5518 Filed 3-12-10; 8:45 am]

BILLING CODE 4312-52-P